DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2002 Vehicle Inventory and Use Survey (VIUS).

Form Number(s): TC-9501, TC-9502.

Agency Approval Number: None.

Type of Request: New collection.

Burden: 85,170.

Number of Respondents: 135,300.

Avg Hours Per Response: 38 minutes.

Needs and Uses: The Census Bureau requests clearance of the forms it will use to conduct the 2002 Vehicle Inventory and Use Survey (VIUS) as part of the 2002 Economic Census. The 2002 VIUS will collect data to measure the physical and operational characteristics of trucks from a sample of approximately 135,300 trucks. These trucks are selected from more than 76 million private and commercial trucks registered on file with motor vehicle departments in the 50 states and the District of Columbia. The Census Bureau will collect the data for the sampled trucks from a questionnaire mailed to truck owners. We will publish physical and operational vehicular characteristics estimates for each state, the District of Columbia, and the United States.

The VIUS is the only comprehensive source of information on the physical and operational characteristics of the Nation's truck population. The need for truck industry data continues to be increasingly important with the passage of the Motor Carrier Act of 1980, the Clean Air Act amendments of 1990, and the Hours-of-Service Regulations proposal of 2000. The VIUS provides unique, essential information for government, business, and academia. The U.S. Department of Transportation, State Departments of Transportation, and transportation consultants compliment VIUS microdata as extremely useful and flexible to meet constantly changing requests that cannot be met with predetermined tabular publications. The microdata file enables them to cross-tabulate data to meet their needs. Federal, state, and local transportation agencies use information from the VIUS for the analysis of safety issues, proposed investments in new roads and technology, truck size and weight issues, user fees, cost allocation, energy and environmental constraints, hazardous materials transport, and other aspects of the Federal-aid highway program. The Federal government uses information from the VIUS as an important part of the framework for: (1) The national investment and personal consumption expenditures component of the gross domestic product (GDP), (2) input-output tables, (3) economic development evaluation, (4) maintenance of vital statistics for prediction of future economic and transportation trends, (5) logistical requirements, (6) Metropolitan Planning Organization (MPO) transportation development requirements, and (7) regulatory impact analysis. Business and academia use information from the VIUS to assess intermodal use, conduct market studies and evaluate market strategies, assess the utility and cost of certain types of equipment, and calculate the longevity of products. VIUS information also is used to determine fuel demands and needs for fuel efficiency, to produce trade publication articles and special data arrays, and to assess the effects of deregulation on the restructuring of the transportation industries.

Affected Public: Individuals or households; Businesses or other for profit; Not-for-profit institutions; Farms.

Frequency: One time.

Respondent's Obligation: Mandatory.

Legal Authority: Title 13 U.S.C., section 131.

OMB Desk Officer: Susan Schechter, (202) 395-5103.

Copies of the above information collection proposal can be obtained by calling or writing Madeleine Clayton, Departmental Paperwork Clearance Officer, (202) 482-3129, Department of Commerce, room 6086, 14th and Constitution Avenue, NW., Washington, DC 20230 (or via the Internet at mclayton@doc.gov).

Written comments and recommendations for the proposed information collection should be sent within 30 days of publication of this notice to Susan Schechter, OMB Desk Officer, room 10201, New Executive Office Building, Washington, DC 20503.

Dated: January 10, 2002.
Madeleine Clayton,
Departmental Paperwork Clearance Officer, Office of the Chief Information Officer.

[FR Doc. 02-1035 Filed 1-15-02; 8:45 am]

BILLING CODE 3510-07-P